DEPARTMENT OF COMMERCE

International Trade Administration

[A-549-502]

Circular Welded Carbon Steel Pipes and Tubes from Thailand: Extension of Time Limit for Final Results of Antidumping Duty New Shipper Review

AGENCY: Import Administration, International Trade Administration, Department of Commerce.

EFFECTIVE DATE: November 19, 2009.

FOR FURTHER INFORMATION CONTACT: Myrna Lobo, AD/CVD Operations, Office 6, Import Administration, International Trade Administration, Department of Commerce, Room 7866, 14th Street and Constitution Avenue, NW, Washington DC 20230; telephone: (202) 482-2371.

SUPPLEMENTARY INFORMATION:

Background

On August 31, 2009, the Department published the preliminary results of the new shipper review of the antidumping duty order on circular welded carbon steel pipes and tubes (pipes and tubes) from Thailand for the period March 1, 2008 through September 30, 2008. See Circular Welded Carbon Steel Pipes and Tubes from Thailand: Preliminary Results of Antidumping Duty New Shipper Review, 74 FR 44825 (August 31, 2009) (Preliminary Results). This review covers the respondent, Pacific Pipe Public Company, Limited (Pacific Pipe), a producer/exporter of the subject merchandise to the United States.

Extension of Time Limit for Final Results

The final results of this new shipper review are currently due on November 22, 2009. Section 751(a)(2)(B)(iv) of the Tariff Act of 1930, as amended (the Act) requires the Department to issue the final results of a new shipper review of an antidumping order within 90 days after the date the preliminary results are issued. However, if the review is extraordinarily complicated, the Act allows the Department to extend the time limit for the final results to a maximum of 150 days. See section 751(a)(2)(B)(iv) of the Act and 19 CFR 351.214(i)(2). In this new shipper review, the Department conducted verification after the publication of the Preliminary Results. The Department must now perform additional analysis on the complex information collected at verification. Thus, in accordance with section 751(a)(2)(B)(iv) of the Act and 19 CFR 351.214(i)(2), the Department is extending the time period for issuing the final results of review by an additional 60 days to January 21, 2010.

This notice is published pursuant to sections 751(a)(2)(B)(iv) and 777(i)(1) of the Act and 351.214(i)(2) of the Department's regulations.

Dated: November 13, 2009.
John M. Andersen,
Acting Deputy Assistant Secretary for Antidumping and Countervailing Duty Operations.

[FR Doc. E9-27833 Filed 11-18-09; 8:45 am]

BILLING CODE 3510-DS-S